DEPARTMENT OF THE INTERIOR

Fish and Wildlife Service

[FWS-HQ-IA-2015-N119]; [FXIA16710900000-156-FF09A30000]

Endangered Species; Receipt of Applications for Permit

AGENCY: Fish and Wildlife Service, Interior.

ACTION: Notice of receipt of applications for permit.

SUMMARY: We, the U.S. Fish and Wildlife Service, invite the public to comment on the following applications to conduct certain activities with endangered species. With some exceptions, the Endangered Species Act (ESA) prohibits activities with listed species unless Federal authorization is acquired that allows such activities.

DATES: We must receive comments or requests for documents on or before July 27, 2015.

ADDRESSES: Brenda Tapia, U.S. Fish and Wildlife Service, Division of Management Authority, Branch of Permits, MS: IA, 5275 Leesburg Pike, Falls Church, VA 22041; fax (703) 358-2281; or email DMAFR@fws.gov.

FOR FURTHER INFORMATION CONTACT: Brenda Tapia, (703) 358-2104 (telephone); (703) 358-2281 (fax); DMAFR@fws.gov (email).

SUPPLEMENTARY INFORMATION:

I. Public Comment Procedures

A. How do I request copies of applications or comment on submitted applications?

Send your request for copies of applications or comments and materials concerning any of the applications to the contact listed under ADDRESSES. Please include the Federal Register notice publication date, the PRT-number, and the name of the applicant in your request or submission. We will not consider requests or comments sent to an email or address not listed under ADDRESSES. If you provide an email address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above (see ADDRESSES).

B. May I Review Comments Submitted by Others?

Comments, including names and street addresses of respondents, will be available for public review at the street address listed under ADDRESSES. The public may review documents and other information applicants have sent in support of the application unless our allowing viewing would violate the Privacy Act or Freedom of Information Act. Before including your address, phone number, email address, or other personal identifying information in your comment, you should be aware that your entire comment—including your personal identifying information—may be made publicly available at any time. While you can ask us in your comment to withhold your personal identifying information from public review, we cannot guarantee that we will be able to do so.

II. Background

To help us carry out our conservation responsibilities for affected species, and in consideration of section 10(a)(1)(A) of the Endangered Species Act of 1973, as amended (16 U.S.C. 1531 et seq.), along with Executive Order 13576, “Delivering an Efficient, Effective, and Accountable Government,” and the President's Memorandum for the Heads of Executive Departments and Agencies of January 21, 2009—Transparency and Open Government (74 FR 4685; January 26, 2009), which call on all Federal agencies to promote openness and transparency in Government by disclosing information to the public, we invite public comment on these permit applications before final action is taken.

III. Permit Applications

Endangered Species

Applicant: Point Defiance Zoo & Aquarium, Tacoma, WA; PRT-789828

The applicant requests a captive-bred wildlife registration under 50 CFR 17.21(g) for the following species to enhance species propagation or survival: Fishing cat (Prionailurus viverrinus), clouded leopard (Neofelis nebulosi), tiger (Panthera tigris), Barbary serval (Leptailurus serval constantina), Parma wallaby (Macropus parma), Asian elephant (Elephas maximus), siamang (Symphalangus syndactylus), anoa (Bubalus depressicornis), radiated tortoise (Astrochelys radiata), Malayan tapir (Tapirus indicus). This notification covers activities to be conducted by the applicant over a 5-year period.

Applicant: James Madison University, Harrisonburg, VA; PRT-68971B

The applicant requests a permit to import Verreaux's sifaka (Propithecus verreauxi) ear notch and hair samples from Beza Majafaly Special Reserve, Betoiky Sud, Madadgascar for the purpose of scientific research. This notification covers activities to be conducted by the applicant over a 5-year period.

Applicant: University of New Mexico, Albuquerque, NM; PRT-62228B

The applicant requests a permit to import chimpanzee (Pan troglodytes) and African elephant (Loxodonta africana) powdered tooth enamel from Makerere University Biological Field Station, Kabarole District, Uganda for the purpose of scientific research. This notification covers activities to be conducted by the applicant over a 5-year period.

Applicant: Zoological Society of San Diego, Escondido, CA; PRT-62693B

The applicant requests a permit to export one male and one female Mauritius pink pigeon (Nesoenas mayeri) to the United Kingdom for the purpose of enhancement of the survival of the species. This notification covers activities to be conducted by the applicant over a 5-year period.

Applicant: University of Pennsylvania/School of Veterinary Medicine, Philadelphia, PA; PRT-64252B

The applicant requests a permit to import biological samples from Asian elephants (Elephas maximus) from Melbourne Zoo, Victoria, Australia for the purpose of scientific research.

Applicant: Exotic Feline Breeding Compound Inc., Rosamond, CA; PRT-61389B

The applicant requests a permit to import one captive-bred female, snow leopard (Uncia uncia) for the purpose of enhancement of the survival of the species. This notification covers activities to be conducted by the applicant over a 1-year period.

Applicant: Kingsley Rodrigo, Chandler, AZ; PRT-53974B

The applicant requests a captive-bred wildlife registration under 50 CFR 17.21(g) for the following species to enhance species propagation or survival: Galapagos tortoise (Chelonoidis nigra), radiated tortoise (Astrochelys radiate), bolson tortoise (Gopherus flavomarginatus), aquatic box turtle (Terrapene coahuila), yellow-spot river turtle (Podocnemis unifilis), and spotted pond turtle (Geoclemys hamiltonii). This notification covers activities to be conducted by the applicant over a 5- year period.

Multiple Applicants

The following applicants each request a permit to import a sport-hunted trophy of two male bontebok (Damaliscus pygargus pygargus) culled from a captive herd maintained under the management program of the Republic of South Africa, for the purpose of enhancement of the survival of the species.

Applicant: Richard Rose, Houston, TX; PRT-60101B

Applicant: Jason Bryan, Cumming, GA; PRT-60258B

Multiple Applicants

The following applicants each request a permit to import the sport-hunted trophy of one male bontebok (Damaliscus pygargus pygargus) culled from a captive herd maintained under the management program of the Republic of South Africa, for the purpose of enhancement of the survival of the species.

Applicant: Keith Busse, FT. Wayne, IN; PRT-67118B

Applicant: Temple Varner, Victor, MT; PRT-66736B

Applicant: Denise Alden, College Station, TX; PRT-64583B

Applicant: Robert Kielwasser, Dallas, Texas; PRT-68348B

Brenda Tapia,
Program Analyst/Data Administrator, Branch of Permits, Division of Management Authority.

[FR Doc. 2015-15577 Filed 6-24-15; 8:45 am]

BILLING CODE 4310-55-P